DEPARTMENT OF HEALTH AND HUMAN SERVICES

National Institutes of Health

Filovirus Animal Models; Public Workshop

AGENCY: National Institutes of Health, HHS.

ACTION: Notice of public workshop.

The National Institutes of Health (NIH) is announcing a public workshop entitled: Filoviruses: Current Status of Research into Pathophysiology and Potential Uses of Animal Models. The purpose of the public workshop is to discuss the current state of understanding of filovirus infections, knowledge gaps and research needs, the current status of research exploring animal models, and the potential role of model development in approaches to investigation of therapeutic or vaccine strategies directed towards filoviruses.

Date and Time: The public workshop will be held on September 11, 2007 from 8:30 a.m.-5 p.m. and on September 12, 2007 from 8:30 a.m.-1 p.m.

Location: The public workshop will be held at the main auditorium, Natcher Conference Center, NIH Campus, 45 Center Drive, Bethesda, Maryland.

Contact Person: Ping Chen, 6610 Rockledge Drive, telephone: 301-451-3756, fax: 301-480-1263, e-mail: chenpi@niaid.nih.gov

Registration: Pre-registration is required and must be completed by August 24, 2007. Please go to the following web site for information about registration (http://www.niaid.nih.gov/news/events/meetings/filo/). There is no registration fee for the public workshop. Early registration is recommended because seating is limited. There will be no onsite registration.

If you need special accommodations due to a disability, please contact (see Contact Person) at least 7 days in advance.

SUPPLEMENTARY INFORMATION: NIH, CDC, DoD, and FDA, are cosponsoring a public workshop titled, “Filoviruses: Current Status of Research into Pathophysiology and Potential Uses of Animal Models”. The meeting will discuss: (1) Background information on filovirus pathogenesis and clinical disease in humans and animals, and status of research into the understanding of human disease and development of animal models; (2) Background information on the scientific issues and regulatory approaches to the potential uses of animal data in the development of prevention and treatment strategies; (3) General review of filovirus vaccine design, rationale, and correlates of protection; (4) General review of the status of preliminary research approaches to filovirus-directed antiviral therapeutics. The workshop's goal is to enhance understanding of filovirus disease, identify knowledge gaps and research needs, and explore the potential strengths and limitations of various animal models.

Transcripts: Transcripts of the public workshop will be available following the workshop. Procedures to obtain a transcript will be made available at a later date.

Dated: July 23, 2007.
Michael G. Kurilla,
Director, Office of Biodefense Research Affairs, Associate Director for Biodefense Product Development, DMID, NIAID, National Institutes of Health.

[FR Doc. E7-14874 Filed 7-31-07; 8:45 am]

BILLING CODE 4140-01-P